DEPARTMENT OF THE INTERIOR

National Park Service

General Management Plan/Environmental Impact Statement, Glen Echo Park, MD

ACTION: Availability of the Final Management Plan/Environmental Impact Statement for Glen Echo Park.

SUMMARY: In accordance with section 102(2)(c) of the National Environmental Policy Act of 1969, the National Park Service announces the availability of a Management Plan/Environmental Impact Statement (MP/EIS) for Glen Echo Park, Glen Echo, Maryland.

DATES: 30-day no-action period will follow the Environmental Protection Agency's notice of availability of the MP/EIS.

ADDRESSES: Public reading copies of the MP/EIS will be available for review at the following locations:

In Maryland: Glen Echo Park, 7300 MacArthur Boulevard, Glen Echo, Maryland 20812; Bethesda Public Library, 7400 Arlington Road, Bethesda, Maryland 20814; Davis Public Library, 6400 Democracy Boulevard, Bethesda, Maryland 20817; Gaithersburg Public Library, 18330 Montgomery Village Avenue, Gaithersburg, Maryland 20879; Little Falls Public Library, 5501 Massachusetts Avenue, Bethesda, Maryland 20816; Potomac Public Library, 99 Maryland Avenue, Rockville, Maryland 20850; Silver Spring Public Library, 8901 Colesville Road, Silver Spring, Maryland 20910; Wheaton Public Library, 11701 Georgia Avenue, Wheaton, Maryland 20902.

In Virginia: Arlington Central Library, 1015 North Quincy Street, Arlington, Virginia 22201; Chantilly Library, 4000 Stringfellow Road, Chantilly, Virginia 20151; Fairfax City Regional Library, 3915 Chain Bridge Road, Fairfax, Virginia 20130; Pohick Public Library, 6450 Sydenstricker Road, Burke, Virginia 22015.

The responsible official is Terry R. Carlstrom, Regional Director, National Capital Region, National Park Service.

Terry R. Carlstrom,
Regional Director, National Capital Region.

[FR Doc. 01-5934 Filed 3-8-01; 8:45 am]

BILLING CODE 4310-70-M